ELECTION ASSISTANCE COMMISSION

Sunshine Act Notice

AGENCY: United States Election Assistance Commission.

ACTION: Notice of Public Meeting for the Newly Established Technical Guidelines Development Committee.

Date and Time: Friday, July 9, 2004; 9 a.m. to 3 p.m.

Place: U.S. Election Assistance Commission, 1225 New York Ave, NW., Suite 1100, Washington, DC 20005 (Metro Stop: Metro Center).

Status: This Meeting Will Be Open to the Public.

SUMMARY: The Technical Guidelines Development Committee (the “Development Committee”) has scheduled an organizational meeting for July 9, 2004. The Committee was established pursuant to 42 U.S.C. 15361(b)(1), to act in the public interest to assist the Executive Director of the Election Assistance Commission in the development of the voluntary voting system guidelines. The purpose of this first meeting of the Committee will be to convene the Committee, and discuss its purpose, and begin developing a plan to establish voluntary voting system guidelines.

* * * * *

Contact Information: Adam Ambrogi (202) 566-3105. If a member of the public would like to submit written comments concerning the Committee's affairs at any time before and after the meeting, written comments should be addressed to the contact person indicated above, or TGDCinfo@eac.gov

Paul S. DeGregorio;
Commissioner, U.S. Election Assistance Commission.

[FR Doc. 04-14627 Filed 6-23-04; 2:08 pm]

BILLING CODE 6820-MP-M